DEPARTMENT OF TRANSPORTATION

Federal Aviation Administration

Notice of Availability, Notice of Public Comment Period, and Request for Comment on the Draft Programmatic Environmental Assessment for Drone Package Delivery Operations in the United States

AGENCY: Federal Aviation Administration (FAA), Department of Transportation (DOT).

ACTION: Notice of availability; request for comments.

SUMMARY: The Federal Aviation Administration (FAA) announces the availability of and requests comments on the draft Programmatic Environmental Assessment (PEA) related to unmanned aircraft systems (UAS) (drone) package delivery operations in the United States.

DATES: Send comments on or before January 8, 2026.

ADDRESSES: Comments may be submitted to 9-FAA-Drone-Environmental@faa.gov.

FOR FURTHER INFORMATION CONTACT: For questions concerning this action, contact AFS-700 Emerging Technologies Division, Office of Safety Standards, Flight Standards Service; email 9-FAA-Drone-Environmental@faa.gov.

SUPPLEMENTARY INFORMATION: The draft PEA evaluates the reasonably foreseeable environmental impacts of UAS (drone) package delivery operations in the United States. The proposed action analyzed in the PEA is for drone operators conducting commercial drone package deliveries under 14 Code of Federal Regulations (CFR) Part 135.

The draft PEA is submitted for public comment pursuant to the National Environmental Policy Act (NEPA) (42 United States Code [U.S.C.] 4321 et seq.); USDOT Order 5610.1D, DOT's Procedures for Considering Environmental Impacts; FAA Order 1050.1G, FAA National Environmental Policy Act Implementing Procedures; Section 4(f) of the Department of Transportation Act (49 U.S.C. 303); and Section 106 of the National Historic Preservation Act (54 U.S.C. 300101 et seq.) on December 1, 2025.

Comments may be submitted in writing to 9-FAA-Drone-Environmental@faa.gov. Commenters should reference the draft PEA for drone package delivery in the email subject line when submitting comments. The final PEA for drone package deliveries in the United States will include public comments received during the public comment period and the FAA's responses.

Before including your address, phone number, email address, or other personal identifying information in your comment, be advised that the entire comment—including personal identifying information—may be made publicly available at any time. While a commenter can ask the FAA to withhold from public review any personal identifying information, the FAA cannot guarantee that it will be able to do so.

The draft PEA is available to view and download electronically at https://www.faa.gov/uas/advanced_operations/nepa_and_drones/. The documentation is available from any internet access including from computers freely available at public libraries.

Issued in Washington, DC.
Derek W. Hufty,
Manager, General Aviation and Commercial Branch, Emerging Technologies Division, Office of Safety Standards, Flight Standards Service.

[FR Doc. 2025-22372 Filed 12-8-25; 8:45 am]

BILLING CODE 4910-13-P